DEPARTMENT OF LABOR

Employment and Training Administration

[TA-W-64,749, TA-W-64,749A, TA-W-64,749B]

Amended Certification Regarding Eligibility To Apply for Worker Adjustment Assistance and Alternative Trade Adjustment Assistance

TA-W-64,749, Lane Furniture Industries, Inc., a Subsidiary of Furniture Brands International, Inc., Upholstery Division, Soltillo, Mississippi.

TA-W-64,749A, Lane Furniture Industries, Inc., a Subsidiary of Furniture Brands International, Inc., Upholstery Division, Verona, Mississippi.

TA-W-64,749B, Lane Furniture Industries, Inc., a Subsidiary of Furniture Brands International, Inc., Distribution Center, Nettleton, Mississippi.

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 12, 2009, applicable to workers of Lane Furniture Industries, Inc., Upholstery Division, Saltillo, Mississippi, Lane Furniture Industries, Inc., Upholstery Division, Verona, Mississippi and Lane Furniture Industries, Inc., Distribution Center, Nettleton, Mississippi. The notice was published in the Federal Register on February 2, 2009 (74 FR 5870).

At the request of the State agency, the Department reviewed the certification for workers of the subject firm. The Saltillo and Verona workers are engaged in the production of upholstered motion and stationary sofas and recliners. The Nettleton location serves as a distribution center for component parts for the aforementioned products and locations as well as a distribution center for finished goods.

New information shows that Furniture Brands International, Incorporated is the parent firm of Lane Furniture Industries, Inc. Workers wages at the subject firm are being reported under the Unemployment Insurance (UI) tax account for Furniture Brands International, Incorporated.

Accordingly, the Department is amending this certification to properly reflect this matter.

The intent of the Department's certification is to include all workers of Lane Furniture Industries, Inc., a subsidiary of Furniture Brands International, Inc., Upholstery Division, Saltillo, Mississippi, Lane Furniture Industries, Inc., a subsidiary of Furniture Brands International, Inc., Upholstery Division, Verona, Mississippi and Lane Furniture Industries, a subsidiary of Furniture Brands International, Inc., Distribution Center, Nettleton, Mississippi who were adversely affected by increased imports of upholstered motion and stationary sofas and recliners.

The amended notice applicable to TA-W-64,749, TA-W-64,749A and TA-W-64,749B) are hereby issued as follows:

All workers of Lane Furniture Industries, Inc., a subsidiary of Furniture Brands International, Inc., Upholstery Division, Saltillo, Mississippi (TA-W-63,749), Lane Furniture Industries, Inc., a subsidiary of Furniture Industries, Inc., a subsidiary of Furniture Brands, Inc., Upholstery division, Verona, Mississippi (TA-W-63,749A) and Lane Furniture Industries, Inc., a subsidiary of Furniture Brands International, Inc., Distribution Center, Nettleton, Mississippi (TA-W-64,749B), who became totally or partially separated from employment on or after December 17, 2007 through January 12, 2011, are eligible to apply for adjustment assistance under Section 223 of the Trade Act of 1974, and are also eligible to apply for alternative trade adjustment assistance under Section 246 of the Trade Act of 1974.

Signed at Washington, DC this 21st day of October 2009.
Richard Church,
Certifying Officer, Division of Trade Adjustment Assistance.

[FR Doc. E9-27018 Filed 11-9-09; 8:45 am]

BILLING CODE 4510-FN-P